DEPARTMENT OF THE INTERIOR

National Park Service

[N6783; NPS-WASO-NAGPRA-NPS0041552; PPWOCRADN0-PCU00RP14.R50000]

Notice of Inventory Completion: University of Florida—Florida Museum of Natural History, Gainesville, FL

AGENCY: National Park Service, Interior.

ACTION: Notice.

SUMMARY: In accordance with the Native American Graves Protection and Repatriation Act (NAGPRA), the University of Florida—Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to David Blackburn, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the University of Florida—Florida Museum of Natural History, and additional information on the determinations in this notice, including the results of consultation, can be found in its inventory or related records. The National Park Service is not responsible for the determinations in this notice.

Abstract of Information Available

Safford Mound (8PI3) (Acc. 4515) is a burial mound from Pinellas County. Safford Mound was first identified in 1883, as a mound located on the east side of the most northern point of Eagle Street (now Pinellas Ave), but the mound is no longer present. Sometime later, the Ancestors were taken to USF for identification, before eventually making their way to the University of Pennsylvania. The collection was transferred to FLMNH as part of a larger acquisition from the University Museum of the University of Pennsylvania in the mid-1970s. Human remains representing at least eight individuals have been identified. The 4,214 associated funerary objects include pottery fragments. The FLMNH does not have any record of hazardous treatments to these collections beyond building-wide Vikane fumigation practices in the past.

Cultural Affiliation

Based on the information available and the results of consultation, cultural affiliation is clearly identified by the information available about the human remains and associated funerary objects described in this notice.

Determinations

The University of Florida—Florida Museum of Natural History has determined that:

• The human remains described in this notice represent the physical remains of eight individuals of Native American ancestry.

• The 4,214 objects described in this notice are reasonably believed to have been placed intentionally with or near individual human remains at the time of death or later as part of the death rite or ceremony.

• There is a connection between the human remains and associated funerary objects described in this notice and the Miccosukee Tribe of Indians and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the University of Florida—Florida Museum of Natural History must determine the most appropriate requestor prior to repatriation. Requests for joint repatriation of the human remains and associated funerary objects are considered a single request and not competing requests. The University of Florida—Florida Museum of Natural History is responsible for sending a copy of this notice to the Indian Tribes and Native Hawaiian organizations identified in this notice and any other consulting parties.

Authority: Native American Graves Protection and Repatriation Act, 25 U.S.C. 3003, and the implementing regulations, 43 CFR 10.10.

Dated: December 8, 2025.
Melanie O'Brien,
Manager, National NAGPRA Program.

[FR Doc. 2025-23355 Filed 12-18-25; 8:45 am]

BILLING CODE 4312-52-P